NATIONAL SCIENCE FOUNDATION

Agency Information Collection Activities; Comment Request: Office of Inspector General Review of Awardee Implementation of NSF's Requirement for a Responsible Conduct of Research Program

AGENCY: National Science Foundation.

ACTION: Notice.

SUMMARY: The National Science Foundation (NSF) Office of Inspector General (OIG) is announcing plans to establish this collection. In accordance with the requirement of section 3506(c)(2)(A) of the Paperwork Reduction Act of 1995, we are providing opportunity for public comment on this action. After obtaining and considering public comment, NSF will prepare the submission requesting Office of Management and Budget (OMB) clearance of this collection for no longer than 3 years. Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by November 13, 2012 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22030, or by email to splimpto@nsf.gov.

FOR FURTHER INFORMATION CONTACT: Suzanne Plimpton at (703) 292-7556 or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title of Collection: Office of Inspector General Review of Awardee Implementation of NSF's Requirement for a Responsible Conduct of Research Program.

OMB Approval Number: 3145-NEW.

Expiration Date of Approval: Not applicable.

Type of Request: Intent to seek approval to establish an information collection.

Abstract: The National Science Foundation Office of Inspector General (NSF OIG) requests establishment of data collection to assess awardee institutions' plans to provide adequate training in the responsible conduct of research to undergraduate students, graduate students, and postdoctoral researchers who are supported by NSF.

Section 7009 of the America COMPETES Act (codified at 42 U.S.C. 1862o-1) requires NSF to ensure that “each institution that applies for financial assistance from the Foundation for science and engineering research or education describe in its grant proposal a plan to provide appropriate training and oversight in the responsible and ethical conduct of research * * *.” NSF's implementation of this requirement is described in the NSF Proposal and Award Policies and Procedures Guide, Part II—Award and Administration Guide, Chapter IV, Part B and is available at nsf.gov/pubs/policydocs/pappguide/nsf11001/aag_4.jsp#IVB.

The Office of Inspector General provides independent oversight of NSF's programs and operations. NSF OIG is responsible for promoting efficiency and effectiveness in agency programs and for preventing and detecting fraud, waste, and abuse. NSF OIG supports NSF in its mission by safeguarding the integrity of NSF programs and operations through audits, investigations, and other reviews.

This information collection is necessary for review of institutional compliance with the responsible conduct of research requirements. NSF OIG will primarily use the data collected to inform the Foundation and Congress whether current responsible conduct of research programs comply with NSF's requirement and to make recommendations to strengthen these programs if necessary. The results of the information collection also will assist NSF OIG in developing a responsible conduct of research oversight plan.

The scope of this information request will primarily address how awardees have implemented NSF's requirement by interviewing three groups of people: (1) Upper-level administrators (e.g., Vice Presidents or Vice Provosts), program administrators (e.g., Research Integrity Officers or Compliance Officers), and trainees who have participated in the program (undergraduate students, graduate students and postdoctoral researchers). From the upper-level administrators, we will request information that will allow us to assess the institution's commitment to the program, including resources (both financial and staff), and how the expectations for the program are communicated to faculty and students. We will request from the program administrators specific information such as course structure and content, participation requirements and options, compliance tracking, faculty participation, resource allocation, and oversight. From the course participants, we will request information about their experiences in the courses with regard to format, duration, content, and the benefits and drawbacks of taking an RCR course. The information collection will be conducted through video-conferencing between NSF OIG and the institutions' participants.

Use of the Information: This information is required for NSF OIG's effective oversight of NSF programs and operations by reviewing institutions' compliance with the responsible conduct of research requirements of the America COMPETES Act and NSF's Proposal and Award Policies and Procedures Guide.

This collection primarily will be used for accountability and evaluation purposes, and to inform Congress and NSF on the outcome of the information collection.

Respondents: Institutions that receive funding from NSF and are required to provide adequate training on the responsible conduct of research.

Number of Respondents: NSF OIG anticipates collecting information from a minimum of 20 institutions per year and a maximum of 100 institutions. Participants at each institution will include at least one senior level administrator, one representative from the responsible conduct of research program, and a group of students with at least one undergraduate student, one graduate student, and one postdoctoral researcher. The information collection will involve between 100 and 500 respondents per year.

Burden on the Public: NSF OIG estimates that the time required for information collection from each senior level administrator will be approximately 30 minutes, from each representative from the responsible conduct of research program approximately 1.5 hours, and from students and postdocs approximately 1 hour each.

At a minimum, each institution will require 4 hours to complete the information collection. The minimum total time burden for 20 institutions per year is 80 hours and 400 hours per year for 100 universities.

Dated: September 11, 2012.
Suzanne H. Plimpton,
Reports Clearance Officer, National Science Foundation.

[FR Doc. 2012-22686 Filed 9-13-12; 8:45 am]

BILLING CODE 7555-01-P